DEPARTMENT OF TRANSPORTATION

[Docket No. NHTSA-2024-0087]

Denial of Motor Vehicle Defect Petition, DP24-001

AGENCY: National Highway Traffic Safety Administration (NHTSA), Department of Transportation.

ACTION: Notice of denial of a petition for a defect investigation.

SUMMARY: This notice sets forth the reasons for the denial of a defect petition, DP24-001, submitted by Ms. Jasmine Jewell (the Petitioner) to NHTSA (the Agency) by a letter dated February 2, 2024. The petition requests that the Agency initiate a safety defect investigation into the loss of motive power incidents attributed to 3.3L Lambda-II engines equipped in vehicles manufactured by Hyundai Motor America (Hyundai), which the Agency interpreted as addressing 3.3L Lambda-II engines on certain Model Year (MY) 2017 Santa Fe Models. After conducting a technical review of the petition and other information, the Agency concluded that the issues raised by the petition do not warrant a new defect investigation. Accordingly, the Agency denied the petition.

FOR FURTHER INFORMATION CONTACT: David Engel, Vehicle Defect Division C, Office of Defects Investigation, NHTSA, 1200 New Jersey Avenue SE, Washington, DC 20590. Telephone: 202-366-0385. Email: david.engel@dot.gov.

SUPPLEMENTARY INFORMATION:

Introduction

Interested persons may petition NHTSA requesting that the Agency initiate an investigation to determine whether a motor vehicle or an item of replacement equipment does not comply with an applicable motor vehicle safety standard or contains a defect that relates to motor vehicle safety. 49 U.S.C. 30162(a)(2); 49 CFR 552.1. Upon receipt of a properly filed petition, the Agency conducts a technical review of the petition, material submitted with the petition, and any additional information. 49 U.S.C. 30162(a)(2); 49 CFR 552.6. The technical review may consist solely of a review of information already in the possession of the Agency or it may include the collection of information from a motor vehicle manufacturer and/or other sources. After conducting the technical review and considering appropriate factors, which may include, but are not limited to, the nature of the complaint, allocation of Agency resources, Agency priorities, the likelihood of uncovering sufficient evidence to establish the existence of a defect, and the likelihood of success in any necessary enforcement litigation, the Agency will grant or deny the petition. See 49 U.S.C. 30162(a)(2); 49 CFR 552.8.

Background Information

The Office of Defects Investigation (ODI) received a petition dated February 2, 2024, requesting a defect investigation into an alleged defect of the 3.3L V-shaped GDI Lambda-II engine equipped in Hyundai vehicles. NHTSA interpreted this request to only include 3.3L Lambda-II engines on certain Model Year (MY) 2017 Santa Fe Models. Given the technical differences between makes and model years that impact engine dynamics, NHTSA limited its analysis to the make and model year used by the Petitioner.

Summary of Petition

The petition cites allegations of a sudden loss of motive power, often resulting in an engine seizure. The stall is preceded by a knocking sound, decreased performance, and no warning lights.

Office of Defects Investigation Analysis

An analysis of the subject vehicle population was undertaken using complaints submitted to ODI along with manufacturer data. It was determined that the frequency of events is low for the subject population and those that specifically report a loss of motive power event have a high mileage at the time of incident.¹

¹ Petitioner also mentions Kia vehicles equipped with this engine. ODI recently closed investigation PE23-019, which investigated a loss of motive power related to head gasket and head bolt failure in MY 2016-2017 Kia Sorento vehicles equipped with the 3.3L Lambda II engine. Through its investigation ODI identified the peer vehicle populations: MY 2014-2015 Kia Sorento, MY 2015-2016 Kia Sedona, and MY 2014-2017 Kia Cadenza equipped with the 3.3L engine. Through discussions with ODI during the investigation, Kia decided to launch extended warranty campaign WTY039 in May 2024, which covers these peer vehicle populations through 15 years or 180,000 miles, whichever comes first. ODI closed the investigation based on analysis of the failure data indicating a low incident report rate of loss of motive power for the alleged defect, and in consideration of the warning signs which frequently occur from head gasket and/or head bolt failure in the subject engines.

The 2017 Santa Fe is equipped with a service interval reminder for the consumer that must be set by the consumer themselves or at a dealership. A Technical Service Bulletin (19-EM-002H) instructs the dealership to set the maintenance reminder after routine maintenance service or anytime a repair is performed that requires new engine oil. This maintenance reminder reinforces the need for proper oil maintenance intervals. Additionally, Santa Fe vehicles with 3.3L V-shaped Lambda-II engines will be added to Hyundai's existing Technical Service Bulletin (23-EM-007H) related to combustion chamber cleaning. Lastly, Hyundai has extended the limited engine warranty for the 2017 Santa Fe equipped with 3.3L V-shaped Lambda-II engines included in the Petition. The updated coverage is 15 years or 150,000 miles and is contained in Technical Service Bulletin 24-EM-003H. These actions will help limit incidents related to loss of motive power.

In view of the service interval reminder, combustion chamber cleaning, and extended warranty actions being taken by Hyundai, NHTSA is denying this Defect Petition as it has not determined a defect investigation is warranted at this time. The Agency reserves the right to take additional action if warranted by future circumstances. To review the reports cited in the Closing Resume ODI Report Identification Number document, go to NHTSA.gov.

Authority: 49 U.S.C. 30162(d) and 49 CFR part 552; delegation of authority at 49 CFR 1.95(a).²

² The authority to determine whether to approve or deny defect petitions under 49 U.S.C. 30162(d) and 49 CFR part 552 has been further delegated to the Associate Administrator for Enforcement.

Eileen Sullivan
Associate Administrator for Enforcement.

[FR Doc. 2024-27526 Filed 11-22-24; 8:45 am]

BILLING CODE 4910-59-P